DEPARTMENT OF AGRICULTURE

Rural Utilities Service

DEPARTMENT OF COMMERCE

National Telecommunications and Information Administration

Broadband Opportunity Council Webinar

AGENCY: Rural Utilities Service, U.S. Department of Agriculture, and National Telecommunications and Information Administration, U.S. Department of Commerce.

ACTION: Notice of public webinar.

SUMMARY: In a request for comment (RFC) published in the Federal Register on April 29, 2015, the Departments of Agriculture and Commerce, which are co-chairing the Broadband Opportunity Council (Council), asked for public input on barriers that are hampering deployment of broadband, ways to promote public and private investment in broadband, challenges facing areas that lack access to broadband, and ways to measure broadband availability, adoption, and speed.¹ To explain the RFC's purpose and objectives, and to allow an opportunity for members of the public to pose questions regarding the RFC, the Rural Utilities Service (RUS) and the National Telecommunications and Information Administration (NTIA) will host a webinar on May 20, 2015.

¹ Broadband Opportunity Council Notice and Request for Comment, 80 FR 23785 (April 29, 2015), available at www.ntia.doc.gov/federal-register-notice/2015/broadband-opportunity-council-notice-and-request-comment.

DATES: The webinar will be held on May 20, 2015, from 4:00 p.m. until 5:00 p.m. Eastern Daylight Time.

ADDRESSES: The webinar will be open to the public and press on a first-come, first-served basis. To help assure that adequate space is provided, all attendees are required to register for the webinar at https://attendee.gotowebinar.com/register/4277364480826458625 by May 13, 2015. Upon registration, webinar information will be distributed, including both the link to the webinar (video) as well as the dial-in information (sound). Due to the limited capacity, we encourage and request that parties at the same location share a webinar link. Refer to the Supplemental Information below and to http://www.rd.usda.gov and http://www.ntia.doc.gov/ for additional information on the webinar.

FOR FURTHER INFORMATION CONTACT: Jennifer Holtz, National Telecommunications and Information Administration, U.S. Department of Commerce, 1401 Constitution Avenue NW, Room 4878, Washington, DC 20230; telephone: (202) 482-2048; email: broadbandusa@ntia.doc.gov or Denise Scott, Rural Development, Rural Utilities Service, U.S. Department of Agriculture, 1400 Independence Avenue SW, Washington, DC 20250; telephone: (202) 720-1910; email: Denise.Scott1@wdc.usda.gov. Please direct media inquiries to NTIA's Office of Public Affairs, (202) 482-7002.

SUPPLEMENTARY INFORMATION:

I. Background

On January 13, 2015, President Obama announced new Administration efforts to help more people, in more communities around the country, gain access to fast and affordable broadband.² With this effort, President Obama created an interagency Broadband Opportunity Council, which is seeking public comment on steps federal agencies can take to help promote broadband deployment, adoption and competition.

² See FACT SHEET: Broadband That Works: Promoting Competition & Local Choice In Next-Generation Connectivity, White House, January 13, 2015, available at http://www.whitehouse.gov/the-press-office/2015/01/13/fact-sheet-broadband-works-promoting-competition-local-choice-next-gener.

The Presidential Memorandum also directs the Council to consult with state, local, tribal, and territorial governments, as well as telecommunications companies, utilities, trade associations, philanthropic entities, policy experts, and other interested parties to identify and assess regulatory barriers and determine possible actions. This Notice seeks public participation, especially from the named stakeholders above, in the Council's RFC webinar to ensure that the RFC will bolster the Council's work and to improve the number and quality of ideas expressed in response to the RFC.

II. Objectives of This Notice

The RFC requests public input on: (i) Ways the federal government can promote best practices, modernize outdated regulations, promote coordination, and offer more services online; (ii) identification of regulatory barriers to broadband deployment, competition, and adoption; (iii) ways to promote public and private investment in broadband; (iv) ways to promote broadband adoption; (v) issues related to state, local, and tribal governments; (vi) issues related to vulnerable communities and communities with limited or no broadband; (vii) issues specific to rural areas; and (viii) ways to measure broadband availability, adoption, and speed.

This Notice announces a public webinar on May 20, 2015 to inform all stakeholders and other interested parties on how they can share their perspectives and recommend actions that the federal government can take to promote broadband deployment, adoption, and competition, including by identifying and removing regulatory barriers unduly impeding investments in broadband technology. The webinar will educate stakeholders and other interested parties on the purpose and objectives of the RFC. It will also provide the public with information on how to participate in the RFC, while also allowing the public to ask any questions about the RFC.

III. Public Webinar

The purpose of the webinar is to inform the public of the Council's RFC and how interested parties may participate in the request. The webinar will be open to the public and press on a first-come, first-served basis. Refer to Addresses above for information on registration for the webinar. Should problems arise with webinar registration, please contact Jennifer Holtz at (202) 482-2048 or email broadbandusa@ntia.doc.gov. Copies of the presentations provided in the webinar will be available on the NTIA Web site within 30 days following the webinar.

The webinar will be accessible to people with disabilities. Individuals requiring accommodations are asked to notify Theresa Thomas at (202) 482-7407 or tthomas@ntia.doc.gov at least 5 business days before the webinar.

Dated: May 1, 2015.
Lisa Mensah,
Under Secretary for Rural Development.
Lawrence E. Strickling,
Assistant Secretary for Communications and Information.

[FR Doc. 2015-10580 Filed 5-5-15; 8:45 am]

BILLING CODE 3510-60-P